FEDERAL COMMUNICATIONS COMMISSION

47 CFR Part 73

[DA 05-574; MB Docket No. 05-66, RM-11146]

Radio Broadcasting Services; Anson and Roby, TX

AGENCY: Federal Communications Commission.

ACTION: Proposed rule.

SUMMARY: This document seeks comment on a petition for rule making filed by Jeraldine Anderson proposing the allotment of Channel 249A at Roby, Texas as the community's first local service. Channel 249A can be allotted at coordinates located 32-43-00 NL and 100-27-00 WL with a site restriction of 7.5 kilometers (4.7 miles) southwest of the community. To accommodate this proposal, the FM Table of Amendments will be amended to reflect the current licensed authorization of Station KTLT(FM) on Channel 251C2 at Anson, Texas. Station KTLT(FM)'s one-step permit (File No. BPH-1990122IG) to upgrade to Channel 251C1 at Anson, Texas expired on December 13, 2002.

DATES: Comments or counterproposals must be filed on or before April 25, 2005, and reply comments must be filed on or before May 10, 2005.

ADDRESSES: Secretary, Federal Communications Commission, 445 12th Street, SW., Room TW-A325, Washington, DC 20554. In addition to filing comments with the FCC, interested parties should serve Petitioner, as follows: Jeraldine Anderson, 1702 Cypress Dr., Irving, TX 75061.

FOR FURTHER INFORMATION CONTACT: Helen McLean, Media Bureau, (202) 418-2738.

SUPPLEMENTARY INFORMATION: This is a summary of the Commission's Notice of Proposed Rulemaking, MB Docket No. 05-66, adopted March 2, 2005, and released March 4, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Texas, is amended by removing Channel 251C1 and by adding Channel 251C2 at Anson, and by adding Roby, Channel 249A.

Federal Communications Commission.
John A. Karousos,
Assistant Chief, Audio Division, Media Bureau.

[FR Doc. 05-5174 Filed 3-15-05; 8:45 am]

BILLING CODE 6712-01-P